DEPARTMENT OF THE TREASURY

Internal Revenue Service

Senior Executive Service Performance Review Board

AGENCY: Internal Revenue Service (IRS), Department of the Treasury.

ACTION: Notice.

SUMMARY: To announce a list of senior executives who comprise a standing roster that will serve on IRS's Fiscal Year 2020 Senior Executive Service (SES) Performance Review Boards.

DATES: This notice is effective September 1, 2020.

FOR FURTHER INFORMATION CONTACT: Sharnetta A. Walton, Director, Office of Executive Services at (202) 317-3817 or Candice I. Jones, Assistant Director, Office of Executive Services at (202) 317-6284, IRS, 1111 Constitution Avenue NW, Washington, DC 20224.

SUPPLEMENTARY INFORMATION: Pursuant to 5 U.S.C. 4314(c)(4), this board shall review and evaluate the initial appraisals of career senior executives' performance and provide recommendations to the appointing authority on performance ratings, pay adjustments and performance awards. The senior executives are as follows:

Sunita B. Lough, Chair

Justin L. Abold-LaBreche

David P. Alito

William H. Ankrum

Robin D. Bailey, Jr.

Scott A. Ballint

Lisa J. Beard-Niemann

Robert J. Bedoya

Michael C. Beebe

Jennifer L. Best

Thomas A. Brandt

Carol A. Campbell

John V. Cardone

Anthony S. Chavez

Robert Choi

James P. Clifford

Amalia C. Colbert

Erin M. Collins

Kenneth C. Corbin

Robert S. Cox

Tracy L. Deleon

Brenda A. Dial

Joseph Dianto

Donald C. Drake

John C. Duder

Elizabeth A. Dugger

James L. Fish

Sharyn M. Fisk

Nikole C. Flax

John D. Fort

Jeff D. Gill

Ursula S. Gillis

Linda K. Gilpin

Dagoberto Gonzalez

Dietra D. Grant

Darren J. Guillot

Valerie A. Gunter

Todd L. Harber

Barbara Harris

Gearl D. Harris

Nancy E. Hauth

Keith A. Henley

Anita M. Hill

John E. Hinding

Carrie Y. Holland

Karen S. Howard

Teresa R. Hunter

Eric C. Hylton

John H. Imhoff, Jr.

Scott E. Irick

Gabrielle Y. James

Barry W. Johnson

William H. Kea, Jr.

Tracy A. Keeter

Andrew J. Keyso, Jr.

Edward T. Killen

Adina H. Leach

James C. Lee

Terry Lemons

Paul J. Mamo

Lee D. Martin

Kevin Q. McIver

Karen A. Michaels

Kevin M. Morehead

Frank A. Nolden

Douglas W. O'Donnell

Deborah T. Palacheck

Kaschit D. Pandya

Holly O. Paz

Robert A. Ragano

Scott D. Reisher

Tamera L. Ripperda

Bridget T. Roberts

Richard L. Rodriguez

Frederick W. Schindler

Verline A. Shepherd

Nancy A. Sieger

Susan A. Simon

Sudhanshu K. Sinha

Eric D. Slack

Harrison Smith

Tommy A. Smith

Donald J. Sniezek

Gloria C. Sullivan

Sylana A. Tramble

Jeffrey J. Tribiano

Kathryn D. Vaughan

Margaret A. Vonlienen

Keith A. Walker

Shanna R. Webbers

Lavena B. Williams

Lisa S. Wilson

This document does not meet the Treasury's criteria for significant regulations.

Jeffrey J. Tribiano,
Deputy Commissioner for Operations Support, Internal Revenue Service.

[FR Doc. 2020-19859 Filed 9-8-20; 8:45 am]

BILLING CODE P